DEPARTMENT OF HOUSING AND URBAN DEVELOPMENT

[Docket No. FR-5130-N-25]

Privacy Act of 1974; Notice of a Computer Matching Program Between the U.S. Department of Housing and Urban Development (HUD) and the U.S. Department of Education (ED)

AGENCY: Office of the Chief Information Officer, HUD.

ACTION: Notice of a Computer Matching Program between HUD and ED.

SUMMARY: In accordance with the Privacy Act of 1974 (5 U.S.C. 552a), as amended by the Computer Matching and Privacy Protection Act of 1988 (Pub. L. 100-503), and the Office of Management and Budget (OMB) Guidelines on the Conduct of Matching Programs (54 FR 25818 (June 19, 1989)); and OMB Bulletin 89-22, “Instructions on Reporting Computer Matching Programs to the Office of Management and Budget (OMB), Congress and the Public,” HUD is issuing a public notice of its intent to conduct a recurring computer matching program with ED to utilize a computer information system of HUD, the Credit Alert Interactive Voice Response System (CAIVRS), with ED's debtor files. HUD has revised the “records to be matched” section of this notice to reflect the new HUD Privacy Act Systems of Records involved in the matching program. This update does not change the authority or objectives of the existing matching program.

DATES: Effective Date: The effective date of the matching program shall July 18, 2008 or at least 40 days from the date copies of the signed (by both agencies Data Integrity Boards (DIBs)) computer matching agreement are sent to the Office of Management and Budget (OMB) and Congress, whichever is later, providing no comments are received which would result in a contrary determination.

Comments Due Date: July 18, 2008.

ADDRESSES: Interested persons are invited to submit comments regarding this notice to the Rules Docket Clerk, Office of General Counsel, Department of Housing and Urban Development, 451 Seventh Street, Room 10276, SW., Washington, DC 20410. Communications should refer to the above docket number and title. A copy of each communication submitted will be available for public inspection and copying between 8 a.m. and 5 p.m. weekdays at the above address.

FOR FURTHER INFORMATION CONTACT: Contact the “Recipient Agency” Departmental Privacy Act Officer, Department of Housing and Urban Development, 451 Seventh Street, SW., Room 2256, Washington, DC 20410, telephone number (202) 402-8073 or the “Source Agency” Department of Education, Federal Student Aid/Borrower Services, 830 First Street, NE., Room 41B4-UCP, Washington, DC 20202, telephone number (202) 377-3212. [These are not toll-free numbers.] A telecommunication device for hearing- and speech-impaired individuals (TTY) is available at (800) 877-8339 (Federal Information Relay Service).

SUPPLEMENTARY INFORMATION: HUD's CAIVRS database includes delinquent debt information from Education (ED), Veteran's Affairs (VA), Justice (DOJ), Small Business Administration (SBA), and the U.S. Department of Agriculture (USDA). This match will allow prescreening of applicants for debts owed to or loans guaranteed by the Federal government to ascertain if the applicant is delinquent in paying a debt owed to or insured by the federal government for HUD or ED direct or guaranteed loans. Before granting a loan, the lending agency and/or the authorized lending institution will be able to interrogate the CAIVRS debtor file which contains the Social Security Numbers (SSNs) of HUD's delinquent debtors, defaulters and defaulted debtor records of ED to verify that the loan applicant is not in default or delinquent on a direct or guaranteed loan of the participating federal programs of either agency. As a result of the information produced by this match, the authorized users may not deny, terminate, or make a final decision concerning any loan assistance to an applicant or take other adverse action against such applicant, until an officer or employee of such agency has independently verified such information.

Reporting of Matching Program

In accordance with Public Law 100-503, the Computer Matching and Privacy Protection Act of 1988, as amended, and OMB Bulletin 89-22, “Instructions on Reporting Computer Matching Programs to the Office of Management and Budget (OMB), Congress and the Public,” copies of this notice and report are being provided to the Committee on Government Reform of the House of Representatives, the Committee on Homeland Security and Governmental Affairs of the Senate, and the Office of Management and Budget.

Authority

HUD has authority to collect and review mortgage data pursuant to the National Housing Act, as amended, 12 U.S.C. 1701 et seq., and related laws. The Department of Education oversees and manages federal student aid programs pursuant to the Higher Education Act of 1965, as amended, 20 U.S.C. 1001 et seq. This computer matching will be conducted pursuant to Public Law 100-503, “The Computer Matching and Privacy Protection Act of 1988,” as amended, and Office of Management and Budget (OMB) Circulars A-129 (Managing Federal Credit Programs). One of the purposes of all Executive departments and agencies is to implement efficient management practices for Federal Credit Programs. OMB Circular A-129 was issued under the authority of the Budget and Accounting Act of 1921, as amended; the Budget and Accounting Act of 1950, as amended; the Debt Collection Act of 1982, as amended by the Debt Collection Improvement Act of 1996; Section 2653 of Public Law 98-369; the Federal Credit Reform Act of 1990, as amended; the Federal Debt Collection Procedures Act of 1990, the Chief Financial Officers Act of 1990, as amended; Executive Order 8248; the Cash Management Improvement Act Amendments of 1992; and pre-existing common law authority to charge interest on debts and to offset payments to collect debts administratively.

Objectives To Be Met by the Matching Program

HUD's primary purpose for continuing the existing matching program is to permit prescreening of applicants for Federal Credit benefits, to ensure that applicants are not delinquent on a Federal debt or have defaulted on a direct or guaranteed loan. As part of this process, HUD will be provided access to ED's debtor data for prescreening purposes.

In this computer matching program, each month HUD/CAIVRS receives limited information on borrowers who have defaulted on loans administered by participating Federal agencies. This information includes: Social Security Number (SSN) or Employer Identification Number (EIN), case number, Federal Agency identifying code, and record type. Participating agencies also provide HUD with a file containing authorized lenders/business partners. When federal agency personnel or authorized lenders access CAIVRS, they must enter a user authorization code followed by either an SSN or EIN (for businesses and non-profits). Only the following information is returned/displayed:

• Yes/No as to whether the holder of that SSN/EIN is in default on a Federal loan; and

• If Yes, then CAIVRS provides to the lender:

• Loan case number;

• Record type (claim, default, foreclosure, or judgment);

• Agency administering the loan program; and

• Phone # at that agency (to call to clear up the default)

• Confirmation Code associated with the query

By law, processing of applications for Federal Credit benefits (such as government-insured loans) must be suspended when applicants are delinquent on Federal debt. Processing may continue only when the debtor satisfactorily resolves the debt (e.g., pays in full or renegotiates a new payment plan). To remove a CAIVRS sanction, the borrower must use the information provided to contact the agency that reported their SSN or EIN to HUD/CAIVRS.

Records To Be Matched

HUD will use records from its systems of records entitled, HUD/SFH-01, Single Family Default Monitoring System; HUD/SFH-02, Single Family Insurance System CLAIMS Subsystem; HUD/HS-55, Debt Collection Asset Management System; and HUD/HS-57, Single Family Mortgage Notes. The debtor files for programs involved are included in these systems of records. HUD's debtor files contain information on borrowers and co-borrowers who are currently in default (at least 90 days delinquent on their loans or who have had their partial claim subordinate mortgage called due and payable and it has not been repaid in full); or who have any outstanding claims paid during the last 3 years on a Title II insured or guaranteed home mortgage loans; or individuals who had a claim paid in the last 3 years on a Title I loan.

ED will provide HUD with debtor files contained in its system of records (Higher Education Act, Title IV Program File, 18-11-05), originally published in the Federal Register at 64 FR 30163-66 (June 4, 1999) and subsequently amended at 64 FR 72407 December 27, 1999). ED records from which the information is compiled are maintained in the Student Financial Assistance Collection system of records, 18-11-07, 64 FR 30166 (June 4, 1999), as amended, 64 FR 72407 (December 27, 1999). ED's routine use for this match is published as routine use number one in the notice for the Student Financial Assistance Files, which permits disclosures of the pertinent information to HUD. ED's data contain information on individuals who have defaulted on their guaranteed loans. ED will retain ownership and responsibility for their systems of records that they place with HUD. HUD serves only as a record location and routine use recipient for ED's data and maintains these records only as a ministerial action on behalf of ED, and not as part of HUD's systems of records.

Notice Procedures

HUD and ED have separate notification procedures. When the Federal credit being sought is a HUD/FHA mortgage, HUD will notify individuals at the time of application (ensuring that routine use appears on the application form). ED will notify individuals at the time of application for Federal student loan programs that their records will be matched to determine whether they are delinquent or in default on a Federal debt. HUD and ED will also publish notices concerning “routine use” disclosures in the Federal Register to inform individuals that a computer match may be performed to determine a loan applicant's credit status with the Federal government.

Categories of Records/Individuals Involved

The debtor records include these data elements: SSN, claim number, the Department of Education's Regional Office Code, Collection Agency Code, program code, and indication of indebtedness. Categories of records include: Records of claims and defaults, repayment agreements, credit reports, financial statements, and records of foreclosures. Categories of individuals include: former mortgagors and purchasers of HUD-owned properties, and home improvement loan debtors who are delinquent or in default (at least 90 days delinquent on their loans or who have had their partial claim subordinate mortgage called due and payable and it has not been paid in full); or who have any outstanding claims paid during the last 3 years on a title II insured or guaranteed home mortgage loans; or individuals who has a claim paid in the last 3 years on a Title I loan. ED's data contain information on individuals who have defaulted on their guaranteed loans

Period of the Match

Matching will begin at least 40 days from the date copies of the signed (by both agencies DIBs) computer matching agreement are sent to both Houses of Congress and OMB or at least 30 days from the date this notice is published in the Federal Register, whichever is later, providing no comments are received which would result in a contrary determination.

Dated: June 6, 2008.
Joseph M. Milazzo,
Acting Chief Information Officer.

[FR Doc. E8-13876 Filed 6-17-08; 8:45 am]

BILLING CODE 4210-67-P